DEPARTMENT OF DEFENSE

Office of the Secretary

[Docket ID: DOD-2012-OS-0097]

Defense Transportation Regulation, Part IV

AGENCY: United States Transportation Command (USTRANSCOM), DoD.

ACTION: Announcement.

SUMMARY: On September 4, 2012 (77 FR 53873-53874), the Department of Defense published a notice titled Defense Transportation Regulation, Part IV. DoD has completed their review and response to comments received in connection with the Defense Personal Property Program (DP3) Phase III Direct Procurement Method (DPM) business rules. Responses can be found on the Defense Transportation Regulation, Part IV Web site at http://www.transcom.mil/dtr/part-iv/phaseiii.cfm (DPM SECTION). All identified changes will be incorporated into the final DPM business rules. The DPM implementation timelines will be based on completion of Defense Personal Property System (DPS) Phase III programming projected for FY17.

FOR FURTHER INFORMATION CONTACT: Mr. Jim Teague, United States Transportation Command, TCJ5/4-PI, 508 Scott Drive, Scott Air Force Base, IL 62225-5357; (618) 256-9605.

SUPPLEMENTARY INFORMATION: Any subsequent modification(s) to the business rules beyond the above stated changes will be published in the Federal Register and incorporated into the Defense Transportation Regulation (DTR) Part IV (DTR 4500.9R). These program requirements do not impose a legal requirement, obligation, sanction or penalty on the public sector, and will not have an economic impact of $100 million or more.

Additional Information

A complete version of the DTR is available via the internet on the USTRANSCOM home page at http://www.transcom.mil/dtr/part-iv/.

Dated: March 21, 2013.
Aaron Siegel,
Alternate OSD Federal Register Liaison Officer, Department of Defense.

[FR Doc. 2013-06854 Filed 3-25-13; 8:45 am]

BILLING CODE 5001-06-P